DEPARTMENT OF HEALTH AND HUMAN SERVICES

Request for Applications for the Targeting Obesity in Young Women to Prevent the Development of Type II Diabetes Program

AGENCY: Office on Women's Health, Office of Public Health and Science, Office of the Secretary, DHHS.

ACTION: Notice.

Announcement Type: Competitive Cooperative Agreement—FY 2006 Initial announcement.

Funding Opportunity Number: Not applicable.

OMB Catalog of Federal Domestic Assistance: The OMB Catalog of Federal Domestic Assistance number is 93.022.

DATES: Letter of Intent: June 29, 2006.

Application Deadline: July 20, 2006.

Anticipated Award Date: August 4, 2006.

SUMMARY: The Office on Women's Health (OWH) is the focal point for women's health within the Department of Health and Human Services (DHHS). Under the direction of the Deputy Assistant Secretary for Women's Health, OWH provides leadership to promote the health equity for women and girls through gender-specific approaches. To that end, OWH has established public/private partnerships to address critical women's health issues nationwide. These include supporting collaborative efforts to provide accurate prevention education and programs for young women at risk for developing type II diabetes because they are overweight or obese.

These awards focus on the HHS initiative Emphasize Healthy Living and Prevention of Disease, Illness, and Disability in the “One Department. One Direction” Department-wide Objectives.

This program is authorized by 42 U.S.C. 300u-2(a).

I. Funding Opportunity Description

A. Populations

This cooperative grant announcement focuses on the development and demonstration of creative and innovative approaches that are effective in reducing the prevalence of overweight/obesity in young women, ages 16-24, by increasing the number of women who adopt positive, healthy, lifestyles. Organizations will be provided with funding that will aid in the development, expansion, or sustainment of effective obesity-related programs in order to effect lifestyle changes that will prevent the development of type II diabetes in the targeted population. The interventions implemented must be substantive in nature, incorporating evidenced-based nutrition, physical activity, and health/wellness components, while also positively impacting knowledge, attitudes, and behaviors.

Proposals must include programs for women who are members of racial and ethnic minority populations who are disproportionately affected by overweight/obesity. Grantees will be asked to describe the characteristics of its target population. Programs that seek to target audiences with a prevalence of overweight/obesity greater than 25% are particularly encouraged to submit proposals.

B. Program Planning, Development, and Recruitment

i. Post-Award Orientation

The grantee shall send two representatives to a two-day post-award orientation meeting in Washington, DC. This meeting shall occur within 2 months of grant award. The project manager of the program and a representative who holds a leadership position in the organization must attend the meeting. Travel funds for this meeting must come out of the total award funding and should be included in the applicant's cost proposal.

The purpose of the post-award orientation meeting will be to clarify tasks and requirements and answer any questions that grantees may have. Grantees shall also share their program plans, approaches, and best practices with each other through presentations and roundtable discussions.

ii. Curriculum Development

A multi-disciplinary planning committee shall be formed consisting of representatives from the organizations, health care professionals, and educators (one member with at least a B.S. in human nutrition, preferably a registered dietitian), and high-risk women in the community. The grantee will consult with the planning committee to design educational sessions that shall educate women on all of the major results of obesity (diabetes, hypertension, cholesterol, stroke, CVD), methods to modify risk, and the benefits associated with risk modification. The benefits of portion control and physical activity shall also be addressed. The format of the educational sessions will be specified in subsequent sections of this funding opportunity description.

Existing curriculum from successfully tested and evaluated obesity prevention intervention programs should be obtained and adapted for this program. DHHS/OWH will offer general resources, such as “The Dietary Guidelines for Americans 2005,” which incorporates weight management information and calorie-lowering strategies, including the DASH diet (2,000 calorie maintenance). The curriculum and materials must be both culturally and educationally appropriate and women-centered (see section VIII.2 for definitions).

iii. Interventions

Each scheduled intervention shall aim to recruit an average of 20 to 50 participants. High-risk racial and ethnic minority young women aged 16-24 shall be targeted; however, all high-risk women shall be eligible to participate in the program, regardless of race, religion, or age. All participants must read and sign a written consent form before starting any intervention programs. The grantee shall prepare the draft consent form in lay-language. The grantee will also create postcard reminders (or e-mail reminders if participants have easy access to the internet) for each educational and maintenance session. The grantee will mail or e-mail the reminders to each participant.

All educational and maintenance sessions shall be focused on mutual support for participants in their efforts to reduce the risk associated with obesity. Grantees can obtain and distribute incentives for attendance (e.g. awards) and incentives to motivate participants to modify risk factors during the course of the intervention. Appropriate incentives will be offered to the participants who achieve their personalized risk modification goals. Positive reinforcement and open communication as well as a healthy sense of competition must be encouraged. Incentives and awards may be solicited as donations from private sources.

iv. Resource Establishment

The grantee must compile a local directory of obesity, nutrition, and physical activity resources (dietitians, diabetes experts, weight loss and exercise programs, public health screening and diagnosis information) available in the community, including health care alternatives for the uninsured and underinsured women. The grantee shall establish a national Web site or enhance an existing organization's Web site to provide support and information online. These Web sites shall be linked to the DHHS/OWH's http://www.womenshealth.gov.

C. Educational Sessions

i. Overview

Each site will host six educational sessions over a period of 6 months. The sessions can be physically located at the grantee's site or at any other appropriate facility in the community that is accessible to the target audience. These sessions shall address the serious consequences of obesity [high blood pressure, type II diabetes, coronary heart disease (CHD), stroke, gallbladder disease, osteoarthritis, sleep apnea, respiratory problems, and some types of cancer] and the benefits associated with risk modification. Sessions may include lectures, demonstrations, video presentations, activities, etc. Each session must also incorporate some form of moderate physical activity (such as walking, yoga, or aerobics).

Additionally, each session shall include a small group discussion component that will focus on encouraging participants to incorporate weight control strategies and physical activity into their daily lives. Participants shall be divided into small groups according to criteria chosen by the grantee. During the group discussion component, participants should discuss self-monitoring efforts and establish risk modification goals. The grantee will consult and incorporate qualified health and nutrition professionals in the development and implementation of the curriculum and small group discussions.

ii. Educational Session #1: Screening and Program Introduction

During the first educational session, screening shall be conducted for each participant (all measurements must be kept confidential) to establish baseline measurements. (Note: Fasting blood tests must be used to screen for cholesterol and diabetes.) The grantee may solicit local health care organizations, drug stores, and/or other private sources to donate or loan screening equipment, giving proper acknowledgment for their assistance. Additionally, health professionals who volunteer to present at sessions can be asked to bring equipment with them and help conduct the screenings. Alternatively, grantees may use a small amount (no more than $10,000.00) of grant funds to purchase screening equipment and supplies.

The importance of weight control, good nutrition, recommended portion sizes, and physical activity will be introduced and emphasized as the primary goal of the program. Daily weight and physical activity self-monitoring materials (diaries, logs, etc.) will be distributed and explained. The site leader should also discuss the reward system for reaching risk modification goals. Moreover, the first session should include a basic orientation on how to use the internet. The orientation shall include instruction on how participants who do not own computers can access computers that are available for public use (e.g. at a public library, health center, faith-based or community-based organization). The format of the orientation may include a hands-on demonstration, pictorial diagrams, and/or written instruction.

During the first educational session, each participant shall also be administered a test to determine baseline knowledge of obesity and its risk factors. Additionally, each participant shall assess her own personal risk profile.

iii. Educational Sessions #2-6: Risk Factors

After the first introductory educational session, the following five educational sessions will be devoted to educating participants about overeating and portion control, good nutrition, and physical activity. In addition, key lessons learned at previous sessions will be reviewed at each of the proceeding sessions to reinforce risk factor knowledge. Interactive guided discussion among participants may help identify effective strategies for overcoming obstacles to eating better and moving more.

iv. Educational Session #6: Screening and Wrap-up

During the sixth and final educational session, participants shall be screened again and each participant shall assess her own personal CVD risk profile. Each participant shall also be administered a test to determine knowledge of obesity and its consequences, nutrition, and physical activity. Additionally, participants shall be asked to provide feedback regarding their experience in the program and evaluate the program. Participants will also decide on a plan of action for the two maintenance sessions.

D. Maintenance Sessions

The maintenance sessions will take place 6 months after the last educational sessions. Participants can decide on the format of the maintenance sessions. The sessions may include any or all of the following: Additional educational seminars, screenings, testimonials, personal counseling, field trips (e.g. trips to gyms to exercise or trips to grocery stores and restaurants to practice selecting healthy foods), etc. However, each session must include a physical activity and a small group discussion component.

The format of each maintenance session should be clearly outlined and documented (what type of activity, duration of activity, material covered, location, etc.). During the last maintenance session, participants will be screened again for risk factors and each participant shall assess her own personal risk profile. Each participant shall also be administered a test to determine knowledge of being obese or overweight and its associated risk factors. Additionally, participants shall be asked to give feedback and evaluate the program.

E. Program Evaluation/Write-Up

Information on personal risk factors must be obtained from three assessment points—the first (baseline) educational session, the last educational session, and the last maintenance session. Self-monitoring materials and feedback from evaluation forms will also provide information. Grantees may choose to use any appropriate tools, survey instruments, self-monitoring and evaluation materials to provide information on short-term and long-term behavioral changes. All materials must be reviewed and approved by the multi-disciplinary planning committee. In addition, grantees shall be required to include a core set of screening and evaluation items that will be prescribed by the DHHS/OWH. These items will be determined during and after the post-award orientation meeting and will most likely consist of items developed by one or more of the grantees.

The grantee shall design a database, collect all participant data, and enter data into the database. This data shall be kept confidential through use of unique identifying numbers and an electronic copy of the data shall be provided to DHHS/OWH. Baseline and follow-up data must be analyzed to quantitatively evaluate the program's effectiveness at two different intervals—after the end of the educational sessions and after the end of the maintenance sessions. The program evaluation must be able to demonstrate, at minimum, the following desired program outcomes:

Primary Outcome Measures

1. Increase the proportion of participants who understand the correlation between being obese/overweight and the resulting illnesses and major complications.

2. Increase participant's knowledge of how to correctly measure and use the widely accepted portions of food.

3. Increase the number of participants who use healthier methods to prepare foods long after session's end.

4. Increase the participant's knowledge of resources in the community that will enable them to engage in regular physical activity, weight control, and healthy nutrition.

5. Have participants show how they have incorporated physical activity into everyday living (using stairs instead of elevators, walking instead of riding to work, parking their vehicle further away from a destination) long after session's end.

6. Decrease the Body Mass Index (BMI) from baseline for participants who are obese long after session's end.

7. Decrease the weight by 7-10% of overweight participants long after session's end.

8. Increase the proportion of participants who engage regularly in moderate physical activity (e.g. joining a health club, using the gym at the YMCA, attending dance classes at the neighborhood recreation center) long after session's end.

Secondary Outcome Measures

1. Increase the proportion of participants who are aware of the BMI and their weight status using the BMI scale.

2. Increase the proportion of participants with high blood pressure at baseline whose blood pressure is under control because of weight loss.

3. Decease the proportion of participants with high total blood cholesterol because they now engage in regular physical activity and practice healthier eating habits.

4. Were new behaviors sustained or abandoned after the sessions?

The evaluation should also address the following questions:

1. Did participants evaluate the program favorably?

2. Did the program meet the needs and expectations of the participants?

3. What changes do the participants suggest?

Emphasis should be placed on aligning program outcomes and targets with the objectives and targets of Healthy People 2010. More information on the Healthy People 2010 objectives may be found at http://www.health.gov/healthypeople. Each grantee should also take into account the baseline characteristics of the potential program participants when setting outcome targets.

DHHS/OWH shall site visit the five grantees during one of the 2-6 Educational Sessions. The grantee shall participate in monthly conference calls with the DHHS/OWH and other grantees. The grantee shall prepare quarterly progress reports that outline the status and progress of the project. The grantee shall prepare a final report that describes the results from the program evaluation and all project activities for the entire 12-month period of the program.

The purpose of the program is to reduce obesity among high-risk young women in the United States through education and risk behavior modification. This obesity prevention program will be targeted towards high-risk racial and ethnic minority women, ages 16-24; however, all high-risk women shall be eligible to participate in the programs regardless of race, religion, or age.

Each grantee shall implement a program in community-based sites across the United States, including urban and rural areas. The main goals will be for program participants to increase their knowledge of obesity risk factors, its cause and effects, to increase their level of physical activity and to learn healthier methods of food preparation and portion control.

II. Award Information

The Office on Women's Health (OWH) anticipates making, through the cooperative agreement grant mechanism, new annual awards for the creation or sustainment of obesity programs for young women, ages 16-24. Funds to be awarded no later than September 1, 2006. Approximately $490,000 is available to make five awards of up to $98,000 total cost (direct and indirect) for a 12-month period. The actual number of awards made will depend upon the quality of the applications received and the amount of funds available for the program. The government is not obligated to make any awards as a result of this announcement.

In order to achieve the goals of the program, the grantee shall develop methods to provide effective education and awareness interventions and messages to at risk young women, ages 16-24, that will positively impact behaviors.

Under this cooperative agreement, the duties of the Federal Government and the grantee are described below:

The DHHS/OWH will provide technical assistance and the oversight necessary for the implementation, conduct, and assessment of program activities. This program will be a model; as such, the federal government may replicate the program and/or use the program materials both during and after the period of performance. The grantee may copyright any work that is developed, or for which ownership was purchased, under the award, but DHHS reserves a royalty-free, nonexclusive and irrevocable right to reproduce, publish, or otherwise use the work for Federal purposes, and to authorize others to do so. In addition, the grantee and/or community partners are encouraged to sustain the program after the end of award and expand it to other sites within its network.

The Federal Government will also:

Review and approve work plan, task outline, and schedule of activities.

Review quarterly progress reports.

Conduct the monthly conference calls with grantees.

Conduct the two-day post-award orientation meeting in Washington, DC within two months of award.

Conduct one site visit per grantee.

Review and approve all educational and instructional materials for the six educational sessions.

Review and approve informed consent document and program promotional materials to ensure adherence to DHHS policies.

The grantee shall complete the requirements described in the Funding Opportunity Description. Specifically, the grantee will:

Provide no less than six educational forums/interventions to address obesity issues in the target audience. The location must be accessible to the target audience.

Establish partnerships with local and community-based organizations, health clubs, recreation centers, hospitals, clinics, etc. to increase access to, or create support groups for overweight/obese young women. Establish a Memorandum of Understanding (MOU) with each urban or rural community-based site willing to participate in the program.

Develop culturally appropriate facilitator education and training modules in an effort to sustain awareness and education programs for the target audience; and ensure education, awareness and training programs are culturally, linguistically, and educationally appropriate for the target audience.

Submit a work plan, task outline, and schedule of activities within one month of award.

Attend a two-day post-award orientation meeting in Washington, DC within two months of grant award. (Travel funds for this meeting must come out of the total award funding and should be included in the applicant's budget justification.)

Participate in monthly conference calls with the DHHS/OWH and other grantees.

Prepare quarterly progress reports that outline the status and progress of the program.

Form a planning committee consisting of representatives from community organization, health care and nutrition professionals and educators, and high-risk women in the community.

Consult with the planning committee to develop six educational sessions that address all of the major risk factors of obesity. Curriculum should be adapted from existing models of prevention intervention curriculum that have been successfully tested and evaluated.

Prepare or obtain educational materials for the six educational sessions (e.g. instructional manual, educational and/or exercise videos, booklets, etc.).

Develop small group discussion format for each session focusing on encouraging participants to incorporate weight control strategies and physical activity into their daily lives.

Track regular physical activity and weight control behaviors.

Use pre and post evaluation materials and survey instruments (e.g. knowledge tests, risk factor profile assessment tools, and qualitative feedback forms).

Prepare a draft consent form in lay-language, obtain appropriate institutional IRB approval, if applicable, and obtain consent from all program participants.

Adhere to all program requirements specified in this announcement and the Notice of Grant Award.

Comply with the DHHS Protection of Human Subjects regulations (which require obtaining Institutional Review Board approval), set out at 45 CFR part 46, if applicable. General information about Human Subjects regulations can be obtained through the Office for Human Research Protections (OHRP) at http://www.hhs.gov/ohrp; ohrp@osophs.dhhs.gov; or toll free at (866) 447-4777.

III. Eligibility Information

1. Eligible Applicants

Eligible entities may include: For profit and not for profit community based organizations, national organizations, colleges and universities, clinics and hospitals, research institutions, State and local government agencies, tribal government and tribal/urban Indian entities, and faith-based organizations.

If funding is requested in an amount greater than the ceiling of the award range ($98,000 total cost for a 12-month period), the application will be considered non-responsive and will not be entered into the review process. The application will be returned with notification that it did not meet the submission requirements. Applications that are not complete or do not conform to or address the criteria of this announcement will be considered non-responsive and will not be entered into the review process. The application will be returned with notification that it did not meet the submission requirements. An organization may submit no more than one proposal for the program announced in this notice of funding availability. Organizations submitting more than one proposal will be deemed ineligible. The proposal will be returned without comment.

2. Cost Sharing or Matching Funds

Cost sharing and matching funds are not a requirement of this grant; however applicants may solicit private sources for donations and/or loans of screening equipment, screening personnel, and participation incentives.

3. Other

A Letter of Intent (LOI) is required prior to submission of applications. See section IV.2 for formatting and submission requirements for the LOI.

IV. Application and Submission Information

1. Address To Request Application Package

Application kits may be requested by calling (240) 453-8822 or writing to: OPHS Office of Grants Management, 1101 Wootton Parkway, Suite 550, Rockville, MD 20852. Requests may also be submitted by FAX at (240) 453-8823.

2. Content and Form of Application Submission

A. Letter of Intent

A Letter of Intent (LOI) is required from all potential applicants for the purpose of planning the competitive review process. The LOI should be no more than one page, double-spaced, printed on one side, with one-inch margins, and 12-point font. LOIs should include the following information: (1) Program announcement title and number; (2) name of the applicant agency or organization, the official contact person and that person's telephone number, fax number, and mailing and e-mail addresses. Do not include a description of your proposed project. Submit the LOI to: OPHS Office of Grants Management, 1101 Wootton Parkway, Suite 550, Rockville, MD 20852. The LOI must be received by the OPHS Office of Grants Management by 5 p.m. Eastern Time on June 29, 2006. If an applicant does not submit an LOI by the established due date and time, the application will not be eligible for the review process.

A Dun and Bradstreet Universal Numbering System (DUNS) number is required for all applications for Federal assistance. Organizations should verify that they have a DUNS number or take the steps necessary to obtain one. Instructions for obtaining a DUNS number are included in the application package, and may be downloaded from the Web site https://www.dnb.com/product/eupdate/requestOptions.html.

B. Application

Applications must be submitted using the Form OPHS-1 (Revised 8/04) and in the manner prescribed in the application kit. Applicants are required to submit an original ink-signed and dated application and 2 photocopies. The application should be organized in accordance with the format presented in the Program Guidelines. The original and each copy must be stapled and/or otherwise securely bound. All pages must be numbered clearly and sequentially. The application must be typed on plain 8½″ x 11″ white paper, using a 12 point font, and contain 1” margins all around. The Project Narrative, excluding the appendices, is limited to a total of 50 pages—the fronts and backs of 25 pieces of paper. The first 50 pages of the proposal will be considered; any pages exceeding this length will be removed from the proposal and will not be evaluated. Staff resumes, letters of support, memorandums of understanding (MOUs), budget justifications, samples of existing curriculum, samples of survey instruments and data collection forms, and research results and references may be included as part of an appendix and will not count toward the 50 pages limit. The application must also include a detailed budget justification, including a narrative and computation of expenditures for one year. The budget justification does not count toward the 50 pages limit.

An outline for the minimum information to be included in the “Project Narrative” section is presented below.

A. Program Plan

The applicant must describe, in detail, its approach for accomplishing each of the requirements identified in the funding opportunity description. The program plan must reference each requirement, and the material should be presented in the order in which it appears in the funding opportunity description. The applicant should demonstrate a full understanding of the need for the program, anticipating, prioritizing, and presenting likely components that will achieve overall goals and desired outcomes. The applicant should also identify potential problems and intended solutions. The applicant is free to recommend and describe other procedures that it believes will more effectively achieve the stated objectives, but needs to carefully relate alternatives and rationales to the approach recommended in the funding opportunity description.

The proposal should include curriculum outlines and sample agendas for one or more of the educational sessions described in the funding opportunity description. The applicant must provide a detailed description of the existing curriculum that will be adapted and used for the educational sessions. In addition, samples of the existing curriculum and results from any pilot or demonstration projects that used the curriculum should be provided. These samples and results may be included as part of the appendices.

B. Experience and Commitment of Key Personnel

The applicant must identify key personnel involved in the project based on the requirements described in funding opportunity description and other personnel adequate to support the administrative, logistical, financial, and scientific coordination aspects of the project within the time limits of the grant. The applicant must provide information on which task(s) each of the key personnel will perform and the rationale for that assignment. Resumes for all proposed personnel must be submitted with the application in the appendices.

C. Management Plan

The applicant should develop and propose a Management Plan. This plan includes a program schedule that lays out tasks and a time-line and identifies significant milestones for the accomplishment of the project. Specific staff responsibilities must be detailed in this schedule along with the number of hours that each person will devote to each task. The plan must provide, at a minimum, details pertaining to the four program phases (Program Planning, Development, and Recruitment; Educational Sessions; Maintenance Sessions; Program Evaluation/Write-Up) as they are outlined in the funding opportunity description.

D. Past Performance

Each applicant should describe its organization's relevant experience and success in managing this type of project. The applicant should also include a description of itself, the experience of its support personnel, and information about grantees, partners, and quality of cooperation between organization, staff, key personnel, and clients. Specific descriptions of relevant previous experience that the organization has performed within the past five years must be included. Include period of performance, dollar amount, name of program sponsor, and a letter of support from at least three different program sponsors. Letters of support may be included as part of the appendices.

Relevant previous experience may include, but is not limited to, the development of: Comprehensive campaigns or educational programs aimed at improving the health of women and/or men; health behavior modification programs; programs delivered in a variety of settings (e.g., educational, hospital, community, etc.); obesity, physical activity, nutrition, chronic disease, or other illness prevention and risk modification programs; and previous collaborations with local and national organizations.

E. Appendices

Include documentation and other supporting information in this section, including staff resumes, letters of support, memorandums of understanding (MOUs), samples of existing curriculum, samples of survey instruments and data collection forms, and research results and references. The applicant should also include an MOU between the applicant and any other organization or entity with which it intends to collaborate/partner.

3. Submission Dates and Times

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic grant application submissions must be submitted no later than 5 p.m. Eastern Time on the deadline date specified in the DATES section of the announcement using one of the electronic submission mechanisms specified below. All required hard copy original signatures and mail-in items must be received by the OPHS Office of Grants Management no later than 5 p.m. Eastern Time on the next business day after the deadline date specified in the DATES section of the announcement.

Applications will not be considered valid until all electronic application components, hard copy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the Grants.gov Web site Portal must contain all completed online forms required by the application kit, the Program Narrative, Budget Narrative and any appendices or exhibits. All required mail-in items must received by the due date requirements specified above. Mail-In items may only include publications, resumes, or organizational documentation.

Upon completion of a successful electronic application submission via the Grants.gov Website Portal, the applicant will be provided with a confirmation page from Grants.gov indicating the date and time (Eastern Time) of the electronic application submission, as well as the Grants.gov Receipt Number. It is critical that the applicant print and retain this confirmation for their records, as well as a copy of the entire application package.

All applications submitted via the Grants.gov Website Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Website Portal, and the required hard copy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the OPHS eGrants System

The OPHS electronic grants management system, eGrants, provides for applications to be submitted electronically. Information about this system is available on the OPHS eGrants Web site, https://egrants.osophs.dhhs.gov, or may be requested from the OPHS Office of Grants Management at (240) 453-8822.

When submitting applications via the OPHS eGrants system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency.

Electronic applications submitted via the OPHS eGrants system must contain all completed online forms required by the application kit, the Program Narrative, Budget Narrative and any appendices or exhibits. The applicant may identify specific mail-in items to be sent to the Office of Grants Management separate from the electronic submission; however these mail-in items must be entered on the eGrants Application Checklist at the time of electronic submission, and must be received by the due date requirements specified above. Mail-In items may only include publications, resumes, or organizational documentation.

Upon completion of a successful electronic application submission, the OPHS eGrants system will provide the applicant with a confirmation page indicating the date and time (Eastern Time) of the electronic application submission. This confirmation page will also provide a listing of all items that constitute the final application submission including all electronic application components, required hard copy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5:00 p.m. Eastern Time on the deadline date specified in the DATES section of the announcement. The application deadline date requirement specified in this announcement supersedes the instructions in the OPHS-1. Applications that do not meet the deadline will be returned to the applicant unread.

4. Intergovernmental Review

This program is subject to the Public Health Systems Reporting Requirements. Under these requirements, community-based and faith-based, non-governmental applicant must prepare and submit a Public Health System Impact Statement (PHSIS). Applicants shall submit a copy of the application face page (SF-424) and a one page summary of the project, called the Public Health System Impact Statement. The PHSIS is intended to provide information to State and local health officials to keep them apprised of proposed health services grant applications submitted by community-based or faith-based, non-governmental organizations within their jurisdictions.

Community-based and faith-based, non-governmental applicants are required to submit, no later than the Federal due date for receipt of the application, the following information to the head of the appropriate state and local health agencies in the area(s) to be impacted: (a) a copy of the face page of the application (SF 424), (b) a summary of the project (PHSIS), not to exceed one page, which provides: (1) A description of the population to be served, (2) a summary of the services to be provided, and (3) a description of the coordination planned with the appropriate state or local health agencies. Copies of the letters forwarding the PHSIS to these authorities must be contained in the application materials submitted to the DHHS/OWH.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: http://www.whitehouse.gov/omb/grants/spoc.html The due date for State process recommendations is 60 days after the application deadline. The OWH does not guarantee that it will accommodate or explain its responses to State process recommendations received after that date. (See “Intergovernmental Review of Federal Programs,” Executive Order 12372, and 45 CFR part 100 for a description of the review process and requirements.)

5. Funding Restrictions

Grant funds may be used to cover costs of:

Personnel.

Consultants.

Office supplies and software.

Educational, promotional and evaluation materials.

Screening supplies and equipment.

Grant related travel (domestic only).

Other grant related costs.

Grant funds may not be used for:

Building alterations or renovations.

Computers.

Construction.

Food.

Fund raising activities.

Medical treatment or therapy.

Political education and lobbying.

Other activities that are not grant related.

V. Application Review Information

1. Criteria

The technical review of applications will consider the following 4 factors:

A. Factor 1: Program Plan (40 points)

This factor will be evaluated by rating the applicant's approach to accomplishing each of the requirements identified in the funding opportunity description as demonstrated by the following:

Demonstrated understanding of the scope, goals, and objectives of the work required and the applicability and clarity of the overall approach.

Discussions detailing how each of the requirements will be performed and the appropriateness of all proposed methodologies and analyses.

Identification of potential problems and intended solutions.

Discussions detailing the criteria used for selecting sites, list of selected sites or locations of sites, and letters of support from each site, if possible.

Discussions of curriculum, including samples of the existing curriculum that will be adapted for the program and preliminary outlines and sample agendas for one or more of the educational sessions described in the funding opportunity description.

Potential for the success of the proposed program plan to improve healthy behaviors so as to reduce obesity/overweight of the targeted population.

B. Factor 2: Management Plan (30 points)

The applicant's staffing, scheduling, and logistics plans will be evaluated for their effectiveness in committing personnel and resources to provide high-quality service and products within the time frames set-forth. This evaluation is based on the following:

Realism of the proposed timeline and the personnel and resources assigned to complete each requirement.

Appropriateness of the proposed number of hours estimated for each requirement and each staff member.

Adequacy of organizational structure.

Adequacy of proposed plan to identify and solve potential problems.

Adequacy of proposed plan to monitor and report on program progress and ensure effective communication between program staff members and the DHHS/OWH.

C. Factor 3: Experience and Commitment of Key Personnel (20 Points)

This factor covers the qualifications of key personnel proposed to perform the work assigned to them and the amount of effort estimated for each person. This evaluation is based on the following:

Experience, education, and professional credentials of proposed key personnel on similar projects and in related fields (similar projects must convey similarity in topic, dollar value, workload, duration, and complexity).

Appropriateness of each person's skills and experience for performing the requirements in the funding opportunity description.

D. Factor 4: Past Performance (10 Points)

This factor will be evaluated by considering the number, size, and complexity of similar projects that the applicant has previously successfully completed. Relevant previous experience may include, but is not limited to, the development of: Comprehensive campaigns or educational programs aimed at improving the health of women and/or men; health behavior modification programs; programs delivered in a variety of settings, re. faith-based, clinical, collegiate, or community-based; obesity-related, re. diabetes, nutrition, physical activity, CHD; disease prevention and risk modification programs; and previous collaborations with national or local community organizations.

Also evaluated will be the applicant's adherence to schedules and budgets, effectiveness of program management, willingness to cooperate when difficulties arise, general compliance with the terms of the contracts, and acceptability of delivered products.

2. Review and Selection Process

Applications will be screened upon receipt. Those that are judged to be incomplete or arrive after the deadline will be returned without review or comment. If funding is requested in an amount greater than the ceiling of the award range ($98,000 for a 12-month budget period), the application will be considered non-responsive and will not be entered into the review process. The application will be returned with notification that it did not meet the submission requirements.

Applicants that are judged to be in compliance will be notified by the OPHS Office of Grants Management. Accepted applications will be evaluated based on the criteria listed in Section V.1 and reviewed for technical merit in accordance with DHHS policies. Applicants are advised to pay close attention to the specific program requirements and general instructions in the application kit and to the definitions provided in this notice.

Applications will be evaluated by an objective technical review panel composed of experts in the fields of program management, chronic disease, obesity/overweight, minority community outreach, health education, and community-based research. Consideration for award will be given to applicants that best demonstrate the potential to design a program that achieves the program goals stated in this announcement.

The Federal Government may conduct pre-award site visits of applicants with scores in the funding range prior to final selection. References may also be requested from these applicants and contacted to better evaluate prior relevant experience. Any applicant who believes the Government will find derogatory information as a result of checking the past performance record may provide an explanation and any remedial action taken by its company to address the problem. Funding decisions will be made by the DHHS/OWH, and will take into consideration the recommendations and ratings of the review panel, pre-award site visits and references, program needs, geographic location, and stated preferences.

Guidance for completing the budget can be found in the Program Guidelines, which are included with the complete application kits. The allowability, allocability, reasonableness, and necessity of direct and indirect costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html. In order to claim indirect costs as part of a budget request, an applicant organization must have an indirect cost rate which has been negotiated with the Federal government. The Health and Human Services Division of Cost Allocation (DCA) Regional Office that is applicable to your State can provide information on how to receive such a rate. A list of DCA Regional Offices is included in the application kit for this announcement. Guidance for completing the budget can be found in the Program Guidelines, which are included with the complete application kits.

VI. Award Administration Information

1. Award Notices: Applicants selected for funding support will receive a Notice of Grant Award signed by the by the Director of the OPHS Office of Grants Management. This is the authorizing document and it will be sent electronically and followed up with a mailed copy.

2. Administrative and National Policy Requirements: (1) In accepting this award, the grantee stipulates that the award and any activities thereunder are subject to all provisions of 45 CFR parts 74 and 92, currently in effect or implemented during the period of this grant. (2) Requests that require prior approval from the awarding office (See Chapter 8, PHS Grants Policy Statement) must be submitted in writing to the OPHS Grants Management Officer. Only responses signed by the OPHS Grants Management Officer are to be considered valid. Grantees who take action on the basis of responses from other officials do so at their own risk. Such responses will not be considered binding by or upon the Office on Women's Health. (3) Responses to reporting requirements, conditions, and requests for post award amendments must be mailed to the attention and address of the Grants Management Officer indicated below in “Contacts.” All correspondence should include the Federal grant number (item 4 on the Notice of Grant Award) and requires the signature of an authorized business official and/or the project director. Failure to follow this guidance will result in a delay in responding to your correspondence. (4) The HHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting: Grantees will submit 4 progress reports, a final report, and a final Financial Status Report in the format established by the DHHS/OWH, in accordance with provisions of the general regulations which apply under “Monitoring and Reporting Program Performance,” 45 CFR parts 74 and 92. The purpose of the progress reports and final report is to provide accurate and timely program information to program managers and to respond to Congressional, Departmental, and public requests for information about the program. Grantees shall prepare a progress report that outlines the status and progression of the project every 3 months. Grantees will be informed of the exact progress report due dates and means of submission after the award is made. The final report must describe all project activities for the entire 12-month period of the program including data analysis and program evaluation. DHHS/OWH shall provide an outline of the final report format and templates for required tables. A draft of the final report must be submitted six weeks prior to the end date of the award. DHHS/OWH will review the draft. Suggested revisions will be discussed individually during a conference call with each grantee. The mutually agreed upon revisions must be incorporated into the final report by the end date of the award.

The grantee shall assign one staff member to participate in a committee with other grantees and DHHS/OWH to prepare a joint manuscript suitable for a peer-reviewed journal. This manuscript shall combine and summarize data from all programs into one final evaluation. The jointly prepared manuscript must be submitted two weeks prior to the end date of award.

VII. Agency Contact(s)

For application kits and information on budget and business aspects of the application, please contact: OPHS Office of Grants Management, 1101 Wootton Parkway, Suite 550, Rockville, MD 20852. Telephone: (240) 453-8822.

Questions regarding programmatic information and/or requests for technical assistance in the preparation of the “Project Narrative” should be directed in writing to: Henrietta (Retta) Terry, Public Health Advisor, Office on Women's Health, Office of Public Health and Science, DHHS, 200 Independence Ave., SW., Rm 712E, Washington, DC 20201. Telephone: 202-205-1952. E-mail: hterry@osophs.dhhs.gov.

VIII. Other Information

1. Background

A. Agency

The Office on Women's Health in the United States Department of Health and Human Services (DHHS/OWH) coordinates the efforts of all the DHHS agencies and offices involved in women's health. DHHS/OWH works to improve the health and well-being of women and girls in the United States through its innovative programs by educating health professionals and motivating behavior change in consumers through the dissemination of health information. To that end, the DHHS/OWH has established public/private partnerships to address health problems in women.

B. Obesity

In 2003-2004, 32.2% of adults were obese. If you are overweight or obese, carrying this extra weight puts you at risk for developing many diseases, especially heart disease, stroke, diabetes, cancer, and breathing problems such as asthma and sleep apnea. Ultimately, obesity can even be life-threatening. Annually in the United States, more than 300,000 deaths are linked to obesity. Losing weight helps to prevent and control these diseases. The good news is that even a modest weight loss can bring health improvements. In many cases, you can accomplish this by eating healthier, exercising, and changing behaviors. For people who don't respond to lifestyle changes, prescription medications, and surgical techniques are available to enhance the weight-loss process.

C. Women and Obesity

More than 65% of U.S. adults are overweight or obese. The percentage of obese adults varied little from 1960 to 1980, but increased considerably between 1980-1991, from 13-21 percent among men and from 17-26 percent among women. Among women, no significant increase in obesity was observed in 1999-2000 (33.4%) and 2003-2004 (33.2%). The prevalence of extreme obesity in women is 6.9%. More adult women are obese (33 percent) than men (28 percent). African American women (32.9%) had the highest rates of obesity. Faced with a history of negative experiences at the doctor's office, many obese women delay preventive medical visits, including those for gynecological cancer screening. Being overweight increases a woman's chance of developing breast, ovarian, cervical, and uterine cancer.

D. Women & Girls Ages 16-24

In 2003-2004, 17.1% of U.S. children and adolescents were overweight. Tests for trend were significant for male and female children and adolescents, indicating an increase in the prevalence of overweight in female children and adolescents from 13.8% in 1999-2000 to 16.0% in 2003-2004. Overweight adolescents have a 70% chance of becoming overweight or obese adults. Overweight in children/adolescents is generally caused by lack of physical activity, unhealthy eating patterns, or a combination of the two, with genetics and lifestyle both playing important roles. Physical activity levels drop sharply as girls become teenagers. By the age of 15 or 16, 28% of Caucasian girls and 58% of African American girls report no habitual leisure-time activity.

E. Racial and Ethnic Minority Women

In 2003-2004, significant differences in obesity prevalence remained by race/ethnicity and by age. Approximately 30% of non-Hispanic white adults were obese as were 45.0% of non-Hispanic black adults and 36.8% Mexican Americans. About 57% of Hispanic/Latino women, 56% of American Indians/Alaska Native women, 42.6% of Asian/Pacific Islander women and 55% of African American women do not exercise, compared to 38% of white women. Hispanic and black individuals, especially women, have a greater prevalence of excess weight compared to their white counterparts. In the 2003 national survey conducted by the American Heart Association, fewer African-American and Hispanic women than white women correctly cited heart disease as the leading cause of death among women.

F. Genetic Factors

Obesity tends to run in families, suggesting a genetic cause. Yet families also share diet and lifestyle habits that may contribute to obesity. Separating these from genetic factors is often difficult. Even so, science shows that heredity is linked to obesity. In one study, adults who were adopted as children were found to have weights closer to their biological parents than to their adoptive parents. In this case, the person's genetic makeup had more influence on the development of obesity than the environment in the adoptive family home.

G. Environmental Factors

Genes do not destine people to a lifetime of obesity; however, environment also strongly influences obesity. This includes lifestyle behaviors such as what a person eats and his or her level of physical activity. Americans tend to eat high-fat foods, and put taste and convenience ahead of nutrition. Also, most Americans do not get enough physical activity. Although you cannot change your genetic makeup, you can change your eating habits and levels of activity.

H. Obesity Interventions

Prevention programs that target high-risk women, particularly racial/ethnic minority women, have the potential to reduce the incidence of obesity/overweight in the United States. Education is an essential component of health promotion efforts, and many programs aiming to prevent obesity focus on education as their primary goal. However, risk behavior modification, the process of translating knowledge into practice, is pivotal to achieving improved health outcomes. In particular, interventions that encourage women to establish a healthy weight and increase their levels of physical activity could dramatically affect obesity rates in the United States. These include:

Personalized risk assessment and screening.

Daily self-monitoring (log-sheets, exercise diaries, etc.).

Program and educational materials tailored to stages of the life cycle, readiness to change, needs and subgroup affiliation (e.g. racial group, low socioeconomic status, obese, etc.).

Behavioral reinforcement strategies such as contracts, verification procedures, incentives, lotteries, and team building.

Group sessions that incorporate physical activity.

Frequent contact via mail and phone.

Resource library on maintaining a health weight, nutrition, physical activity.

2. Definitions

For the purposes of this cooperative agreement program, the following definitions are provided:

Community-based: The locus of control and decision-making powers is located at the community level, representing the service area of the community or a significant segment of the community.

Community-based organization: Public and private, nonprofit organizations that are representative of communities or significant segments of communities.

Culturally competent/appropriate: Information and services provided at the educational level and in the language and cultural context that are most appropriate for the individuals for whom the information and services are intended. Additional information on cultural competency is available at the following Web site: http://www.aoa.dhhs.gov/May2001/factsheets/Cultural-Competency.html.

Partnership: A collaboration where both parties play a substantive role during all stages of the program including development, implementation and evaluation. Both parties must also be included and consulted when decisions are made on all aspects of the program.

Racial and Ethnic Minority Women: American Indian or Alaska Native, Asian, Black or African American, Hispanic or Latino, and Native Hawaiian or Other Pacific Islander. (Revision to the Standards for the Classification of Federal Data on Race and Ethnicity, Federal Register, Vol. 62, No. 210, pg. 58782, October 30, 1997.)

Sustainability: An organization's or program's staying power: The capacity to maintain both the financial resources and the partnerships/linkages needed to provide the services demanded from an OWH program. It also involves the ability to survive change, incorporate needed changes, and seize opportunities provided by a changing environment.

Target: Put forth effort to ensure that members of a specific group of women are aware of the program and that components of the program are designed to be effective in reaching those populations. This includes creating program materials that are culturally competent for that specific group of women. This also includes training staff and health professionals to understand the unique needs, behaviors, cultures and concerns of members of the specific group of women. Targeting does not mean excluding other groups of women from the program.

Women-centered: (1) Taking into account the differences between heart disease in men and women and (2) addressing the needs and concerns of women in a way that is welcoming to women, fosters a commitment to women, treats women with dignity, and empowers women through respect and education.

3. Resources

http://www.healthierus.gov; http://www.mypyramid.gov; http://www.healthfinder.gov; http://www.womenshealth.gov.

Aim for a Healthy Weight: http://www.nhlbi.nih.gov/health/public/heart/obesity/lose_wt/patmats.htm.

Body Mass Index Calculator: http://www.nhlbisupport.com/bmi/bmicalc.htm.

Portion Distortion: http://hin.nhlbi.nih.gov/portion.

We Can! Families Finding the Balance—A Parent Handbook (in English or Spanish): http://www.nhlbi.nih.gov/health/public/heart/obesity/wecan_mats/parent_hb_en.htm.

Dietary Guidelines for Americans 2005: http://www.usda.gov/cnpp/dietary_guidelines.html.

Allison DB, Fontaine KR, Manson JE, Stevens J, VanItallie TB. Annual deaths attributable to obesity in the United States. Journal of the American Medical Association; 1999; 282(16):1530-1538.

NAASO Obesity Society. Web site: http://www.nasso.obesity.org.

National Heart, Lung, and Blood Institute. Clinical Guidelines on the Identification, Evaluation, and Treatment of Overweight and Obesity in Adults. Department of Health and Human Services, National Institutes of Health; 1998. NIH Publication No. 98-4083.

National Heart, Lung, and Blood Institute. Working Group on Competencies for Overweight and Obesity Identification, Prevention and Treatment, 2005.

National Task Force on Prevention and Treatment of Obesity. Overweight, obesity, and health risk. Archives of Internal Medicine. 2000; 160(7):898-904.

Partnership for Healthy Weight Management. Weight Loss: Finding a Weight Loss Program that Works for You. 2000. Phone: 1-888-8-PUEBLO. Web site: www.consumer.gov/weightloss/brochures.htm.

Partnership for Healthy Weight Management. Setting Goals for Healthy Weight Loss. 1999. Phone: 1-888-8-PUEBLO. Web site: http://www.consumer.gov/weightloss/brochures.htm.

The President's Council on Physical Fitness and Sports, Department of Health and Human Services. Exercise and Weight Control. Web site: http://www.fitness.gov/Reading_Room/reading_room.html.

Surgeon General's Call to Action to Prevent and Decrease Overweight and Obesity. Web site: http://www.surgeongeneral.gov/topics/obesity.

U.S. Department of Agriculture and U.S. Department of Health and Human Services. Dietary Guidelines for Americans. 2000. Phone: 1-888-878-3256. Web site: http://www.usda.gov/cnpp or http://www.health.gov/dietaryguidelines.

Dated: June 7, 2006.
Wanda K. Jones,
Deputy Assistant Secretary for Health (Women's Health).

[FR Doc. E6-9640 Filed 6-19-06; 8:45 am]

BILLING CODE 4150-33-P